SMALL BUSINESS ADMINISTRATION

Public Federal Regulatory Enforcement Fairness Hearing; Region III Regulatory Fairness Board

The Small Business Administration Region III Regulatory Fairness Board and the SBA Office of the National Ombudsman will hold a Public Hearing on Thursday, October 14, 2004 at 9 a.m. at 405 Capitol Street, 4th Floor Conference Room, Charleston, WV 25301, phone (304) 347-5220, to receive comments and testimony from small business owners, small government entities, and small non-profit organizations concerning regulatory enforcement and compliance actions taken by federal agencies.

Anyone wishing to attend or to make a presentation must contact David Manley in writing or by fax, in order to be put on the agenda. David Manley, Loan Specialist, SBA West Virginia District Office, 320 West Pike Street, Suite 330, Clarksburg, WV 26301, phone (304) 623-5631 ext. 233, fax (304) 623-0023, e-mail: david.manley@sba.gov.

For more information, see our Web site at http://www.sba.gov/ombudsman.

Dated: September 24, 2004.
Peter Sorum,
Senior Advisor, Office of the National Ombudsman.

[FR Doc. 04-22027 Filed 9-30-04; 8:45 am]

BILLING CODE 8025-01-P